FEDERAL COMMUNICATIONS COMMISSION

Notice of Public Information Collection(s) Being Submitted to OMB for Review and Approval

July 29, 2002.

SUMMARY: The Federal Communications Commissions, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning whether the proposed collection of information is necessary for the proper performance of the functions of the Commission, including whether the information shall have practical utility; the accuracy of the Commission's burden estimate; ways to enhance the quality, utility, and clarity of the information collected; and ways to minimize the burden of the collection of information on the respondents, including the use of automated collection techniques or other forms of information technology.

DATES: Written comments should be submitted on or before September 6, 2002. If you anticipate that you will be submitting comments, but find it difficult to do so within the period of time allowed by this notice, you should advise the contact listed below as soon as possible.

ADDRESSES: Direct all comments to Les Smith, Federal Communications Commission, Room 1-A804, 445 12th Street, SW., Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Control Number: 3060-0174.

Title: Section 73.1212, Sponsorship Identification; List Retention; Related Requirements.

Form Number: N/A.

Type of Review: Extension of a currently approved collection.

Respondents: Individuals or households; Business or other for-profit entities.

Number of Respondents: 15,122.

Estimated Time per Response: 4 secs. to 6 mins.

Total Annual Burden: 91,231 hours.

Total Annual Costs: None.

Needs and Uses: 47 CFR 73.1212 requires a broadcast station to identify the sponsor of programming for which consideration is provided. For programming advertising commercial products or services, generally mention of the product's name or service constitutes sponsorship identification. For television political advertisements for candidates seeking public office, the sponsor shall be identified with letters equal to or greater than four percent of the vertical height of the television screen. In addition, when an entity rather than an individual sponsors broadcast programming of a political or controversial nature, the licensee must retain a list of the executive officers, board of directors, or executive committee, etc., of the organization paying for the programming. Sponsorship announcements are waived when broadcasting “want ads” are sponsored by individuals, but the licensee must maintain a list of each advertiser's name, address, and telephone number. Each list must be available for public inspection.

OMB Control Number: 3060-0707.

Title: Over-the-Air Reception Devices (OTARD).

Form Number: N/A.

Type of Review: Revision of a currently approved collection.

Respondents: State, local, or tribal governments; Individuals or households.

Number of Respondents: 60.

Estimated Time per Response: 2 to 5 hours.

Frequency of Response: On occasion reporting requirements; Third party disclosure.

Total Annual Burden: 224 hours.

Total Annual Costs: $9,050.

Needs and Uses: The FCC uses petitions for waivers of the rules under section 207 of the Telecommunications Act of 1996 to determine whether a state, local, or non-governmental regulation or restriction is unique in a way that justifies waiver of our rules prohibiting restrictions on the use of over-the-air reception devices (OTARD).

OMB Control Number: 3060-0896.

Title: Broadcast Auction Form Exhibits.

Form Number: FCC 175.

Type of Review: Extension of a currently approved collection.

Respondents: Business and other for-profit entities; Not-for-profit institutions; and State, Local, or Tribal Governments.

Number of Respondents: 5,650.

Estimated Time per Response: 0.5 to 2 hours.

Total Annual Burden: 10,903 hours.

Total Annual Costs: $32,535,500.

Needs and Uses: FCC Rules require broadcast auction participants to submit exhibits disclosing ownership, bidding agreements, and engineering data. The Commission staff use these data to ensure that applicants are qualified to participate in FCC auctions and to ensure that license winners are entitled to receive the new entrant bidding credit, if applicable. Exhibits regarding joint bidding agreements are designed to prevent collusion. Submission of engineering exhibits for non-table services enables the FCC to determine which applications are mutually exclusive.

Federal Communications Commission.
Marlene Dortch,
Secretary.

[FR Doc. 02-19884 Filed 8-6-02; 8:45 am]

BILLING CODE 6712-01-P